DEPARTMENT OF HEALTH AND HUMAN SERVICES

Administration for Children and Families

[Program Announcement No. OCS-2002-10]

Request for Applications Under the Office of Community Services' Fiscal Year 2002 Community Economic Development Program

AGENCY: Office of Community Services (OCS), Administration for Children and Families Department of Health and Human Services.

ACTION: Correction and Clarification.

SUMMARY: This document clarifies and corrects the notice that was published in the Federal Register on Tuesday, May 28, 2002, Part IV (67 FR 37274). It corrects a telephone number and the spelling of a street name address. It clarifies the notice by removing subsection points for Criterion VI: Project Evaluation. Also, it clarifies that references to Sub-priority Areas 1.5 and 1.6 in Attachment K, “Guidelines for a Business Plan” do not apply to any Priority Areas for this announcement.

FOR FURTHER INFORMATION CONTACT: Kaaren Turner at (202) 260-5683 or the OCS Operation Center at 1-800-281-9519 for referral to the appropriate contact person in OCS for programmatic questions or send an e-mail to OCS@lcgnet.com.

Corrections

In the Federal Register issue of May 28, 2002 (67 FR 37274), on page 37274, third column, remove “FOR GENERAL QUESTIONS ON THE ANNOUNCEMENT, CONTACT: Mr. Ros Relaford, Technical Assistance Manager, OCS Operations Center, Call: 1-800-281-9516, or E-mail: OCS@lcgnet.com” and add: “FOR GENERAL QUESTIONS ON THE ANNOUNCEMENT, CONTACT:” Mr. Ros Relaford, Technical Assistance Manager, OCS Operations Center, Call: 1-800-281-9519, or E-mail: OCS@lcgnet.com”.

Also, in the Federal Register issue of May 28, 2002 (67 FR 37274), on page 37274, in the first column, under “Application Submission”, Mailing and Delivery Address:, 4th line, in the second column, 2nd paragraph, 8th line, under Submission Instructions; and in the 3rd column, under “For A Copy Of Announcement, Contact:” 2nd line, remove “Fort Meyer Drive”, and replace with “Fort Myer Drive”.

Clarifications

In the Federal Register issue of May 28, 2002 (67 FR 37274), on page 37285, remove all the points under the subsections (1-4) as found under “Criterion VI; Project Evaluation”; that is column 2, end of 2nd paragraph of subsection (1), remove “(0-2 points)”; end of subsection (2), remove “(0-2 points)”; column 2, end of paragraph 1, subsection (3), removed “(0-2 points)”; and column 3, end of subsection (4), remove “(0-2 points)”.

In the Federal Register issue of May 28, 2002 (67 FR 37274), under Attachment K, “Guidelines for a Business Plan,” on page 37307, beginning of the second paragraph of the third column and ending on page 37308, end of third column, sections that reads “Applicable to Sub-priority Area 1.5 Only,” “Applicable to Sub-priority Area 1.6 only”, “Applicable to Sub-priority 2.1” and “e. Significant Beneficial Impact and Other Criteria,” do not apply to any Priority Area in this notice.

Dated: June 9, 2002.
Clarence Carter,
Director, Office of Community Services.

[FR Doc. 02-15390 Filed 6-18-02; 8:45 am]

BILLING CODE 4184-01-M